DEPARTMENT OF ENERGY

Federal Energy Regulatory Commission

Combined Notice of Filings #1

January 26, 2010.

Take notice that the Commission received the following electric rate filings:

Docket Numbers: ER99-845-019.

Applicants: Puget Sound Energy, Inc.

Description: Puget Sound Energy, Inc.'s Notice of Closing and Notice of Non-Material Change in Status Regarding Acquisition of Fredonia Units 3&4.

Filed Date: 01/26/2010.

Accession Number: 20100126-5018.

Comment Date: 5 p.m. Eastern Time on Tuesday, February 16, 2010.

Docket Numbers: ER01-138-007.

Applicants: Delta Person Limited Partnership.

Description: Notice of Non-Material Change in Facts of Delta Person Limited Partnership.

Filed Date: 01/25/2010.

Accession Number: 20100125-5170.

Comment Date: 5 p.m. Eastern Time on Tuesday, February 16, 2010.

Docket Numbers: ER05-516-002; ER05-911-002; ER05-1264-001; ER06-95-003; ER06-948-001; ER06-1306-001; ER07-114-001; ER07-812-002.

Applicants: Pacific Gas and Electric Company.

Description: Pacific Gas and Electric Company submits filing and acceptance a compliance filing in response to and in accordance with the directives in the Order Conditionally Approving Uncontested Settlement etc.

Filed Date: 01/25/2010.

Accession Number: 20100125-0220.

Comment Date: 5 p.m. Eastern Time on Tuesday, February 16, 2010.

Docket Numbers: ER08-912-009; ER05-365-022.

Applicants: Iberdrola Renewables, Inc., Elk River Windfarm, LLC.

Description: Iberdrola Renewables et al. submits supplemental filing to indicate their classification as a Category 1 or Category 2 Seller etc.

Filed Date: 01/22/2010.

Accession Number: 20100125-0024.

Comment Date: 5 p.m. Eastern Time on Friday, February 12, 2010.

Docket Numbers: ER09-1364-002.

Applicants: Michigan Power Limited Partnership.

Description: Michigan Power Limited Partnership Notice of Market-Based Rate Non-Material Change In Facts.

Filed Date: 01/25/2010.

Accession Number: 20100125-5173.

Comment Date: 5 p.m. Eastern Time on Tuesday, February 16, 2010.

Docket Numbers: ER10-43-000.

Applicants: E.ON U.S. LLC.

Description: E.ON U.S, LLC submits Supplement to Filing Response to Deficiency Notice.

Filed Date: 1/20/2010.

Accession Number: 20100121-0008.

Comment Date: 5 p.m. Eastern Time on Wednesday, February 1, 2010.

Docket Numbers: ER10-397-001.

Applicants: Cesarie, Inc.

Description: Cesarie, Inc submits the amended petition for Acceptance of Initial Tariff, Waivers and Blanket Authority.

Filed Date: 01/22/2010.

Accession Number: 20100125-0209.

Comment Date: 5 p.m. Eastern Time on Friday, February 12, 2010.

Docket Numbers: ER10-550-001.

Applicants: Southwest Power Pool, Inc.

Description: Southwest Power Pool, Inc submits a request for an effective date of 3/1/10 for the December 31 filing of an Open Access Transmission Tariff.

Filed Date: 01/21/2010.

Accession Number: 20100122-0202.

Comment Date: 5 p.m. Eastern Time on Thursday, February 11, 2010.

Docket Numbers: ER10-621-000.

Applicants: Noble Energy Marketing and Trading Corp.

Description: Application of Noble Energy Marketing and Trade Corp for expedited order accepting initial rate schedule, waiving regulations, and granting blanket approvals.

Filed Date: 01/21/2010.

Accession Number: 20100122-0204.

Comment Date: 5 p.m. Eastern Time on Thursday, February 11, 2010.

Docket Numbers: ER10-628-000.

Applicants: Peetz Logan Interconnect, LLC.

Description: Peetz Logan Interconnect, LLC submits an Amended and Restated Transmission Service Agreement with Northern Colorado Wind Energy, LLC, et al.

Filed Date: 01/21/2010.

Accession Number: 20100122-0201.

Comment Date: 5 p.m. Eastern Time on Thursday, February 11, 2010.

Docket Numbers: ER10-629-000.

Applicants: Xcel Energy Services Inc.

Description: Xcel Energy Operating Companies submits amendments to the First Amended Joint Operating Agreements, FERC Electric Tariff, First Revised No 1.

Filed Date: 01/21/2010.

Accession Number: 20100122-0205.

Comment Date: 5 p.m. Eastern Time on Thursday, February 11, 2010.

Docket Numbers: ER10-638-000.

Applicants: American Electric Power Service Corporation.

Description: American Electric Power Service Corporation submits Twenty First Revised Interconnection and Local Delivery Service Agreement between AEP and Buckeye Power, Inc.

Filed Date: 01/25/2010.

Accession Number: 20100125-0219.

Comment Date: 5 p.m. Eastern Time on Tuesday, February 16, 2010.

Take notice that the Commission received the following PURPA 210(m)(3) filings:

Docket Numbers: QM10-2-002.

Applicants: The Detroit Edison Company.

Description: Response of The Detroit Edison Company to Deficiency Letter.

Filed Date: 01/22/2010.

Accession Number: 20100122-5092.

Comment Date: 5 p.m. Eastern Time on Friday, February 22, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-2082 Filed 2-1-10; 8:45 am]

BILLING CODE 6717-01-P